DEPARTMENT OF TRANSPORTATION

Office of the Secretary

[Docket No. OST-95-246]

North American Free Trade Agreement's Land Transportation Standards Subcommittee and Transportation Consultative Group: Annual Plenary Session

AGENCY: Office of the Secretary, DOT.

ACTION: Notice.

SUMMARY: This notice (1) announces the seventh joint annual plenary session of the North American Free Trade Agreement's (NAFTA) Land Transportation Standards Subcommittee (LTSS) and the Transportation Consultative Group (TCG) and other related meetings; and (2) invites representatives of non-governmental entities with an interest in land transportation issues to participate in a listening session immediately preceding the plenary meeting and to attend a briefing at a later date. Only U.S., Canadian, and Mexican government officials may attend the plenary and working group meetings.

Background

The Land Transportation Standards Subcommittee (LTSS) was established by the North American Free Trade Agreement's (NAFTA) Committee on Standards-Related Measures to examine the land transportation regulatory regimes in the United States, Canada, and Mexico, and to seek to make certain standards more compatible. The Transportation Consultative Group (TCG) was formed by the three countries' departments of transportation to address non-standards-related issues that affect cross-border movements among the countries, but that are not included in the NAFTA's LTSS work program (Annex 913.5-1).

Meetings and Deadlines

The seventh joint annual LTSS/TCG plenary session will be held from October 23 to 27, 2000, at the Mansion Galindo Fiesta Americana Hotel, in the municipality of San Jaun del Rio, Queretaro, Mexico. The following LTSS working groups are expected to meet during the same week and at the same location: (1) Compliance and Driver and Vehicle Standards; (2) Vehicle Weights and Dimensions; (3) Hazardous Materials Transportation Standards; and (4) Traffic Control Devices. Similarly, the following TCG working groups are expected to meet: (1) Cross-Border Operations and Facilitation; (2) Rail Safety and Economic Issues; (3) Automated Data Exchange; (4) Science and Technology; and (5) Maritime and Ports Policy

Also at the same San Juan del Rio site, on October 23, 2000, a listening session will be held for representatives of the truck, bus, and rail industries, transportation labor unions, brokers and shippers, chemical manufacturers, insurance industry, public safety advocates, and others who have notified us of their interest to attend and have submitted copies of their presentations, in English and Spanish, to the address below by October 10, 2000. This is an opportunity for presenters to voice their concerns, provide technical information, and offer suggestions relevant to achieving greater standards compatibility and improving cross-border trade. While written statements may be of any length, oral presentations will be limited to10 minutes per presenter. After October 10, statements may be submitted for the record, and requests to present oral comments at the listening session will be accommodated only on a time-available basis.

Although participation in the LTSS and TCG plenary and working group meetings is limited to government officials only, representatives of non-governmental entities also are invited to take part in parallel topical discussions, visits to transport facilities, and a final briefing by the heads of the U.S., Canadian, and Mexican delegations to be held on October 27.

Hotel reservations may be arranged through Ms. Isabel Ramirez Samperio at Mexico's Secretariat of Communications and Transportation (SCT). Participants are requested to obtain a registration form from DOT staff contact, Allen Wiener at (202) 366-2892. The registration form should be sent by fax to Ms. Ramirez at 011-525-684-1252. The Mansion Galindo Fiesta Americana Hotel is located at: Carretera Amealco, KM. 5, San Juan Del Rio, Queretaro. The hotel telephone number is 427-5-0250 and the fax number is 427-5-0299.

A briefing to report on the outcome of the San Juan del Rio, Queretaro meetings will be conducted at DOT at the address below, on November 28, 2000, from 10:00 a.m. to noon. Interested parties may notify DOT of their interest to attend this briefing by calling (202) 366-2892 by November 20.

SUPPLEMENTARY INFORMATION: LTSS-related documents, including past working group reports and statements received by DOT from industry associations, transportation labor unions, public safety advocates, and others are available for review in Docket No. OST-95-246, at the address below, Room PL-401, between 9:00 a.m. and 5:00 p.m., e.s.t., Monday through Friday, except national holidays. The Docket, which is updated periodically, may also be accessed electronically at http://dms.dot.gov.

Address and Phone Numbers

Individuals and organizations interested in participating in the listening session on October 23, 2000 must send notice of their interest and copies of their presentations by October 10 to Allen Wiener, U.S. Department of Transportation, OST/X-20, Room 10300, 400 Seventh Street, SW., Washington, DC 20590. Respondents may also send information by fax at (202) 366-7417. For additional information, call (202) 366-2892.

Dated: August 21, 2000.
Bernestine Allen,
Director, Office of International Transportation and Trade.

[FR Doc. 00-21847 Filed 8-25-00; 8:45 am]

BILLING CODE 4910-62-P